DEPARTMENT OF ENERGY

Federal Energy Regulatory Commission

Combined Notice of Filings

Take notice that the Commission has received the following Natural Gas Pipeline Rate and Refund Report filings:

Filings Instituting Proceedings

Docket Numbers: RP18-963-000.

Applicants: Eastern Shore Natural Gas Company.

Description: § 4(d) Rate Filing: Tariff Revisions to GT&C 6.14 Procedures for Allocating Available Firm Capacity to be effective 8/6/2018.

Filed Date: 7/6/18.

Accession Number: 20180706-5156.

Comments Due: 5 p.m. ET 7/18/18.

Docket Numbers: RP18-964-000.

Applicants: EQT Production Company, EQT Energy, LLC.

Description: Joint Petition of EQT Production Co., et al., for Limited Waiver of Capacity Release Regulations and Tariff Provisions.

Filed Date: 7/9/18.

Accession Number: 20180709-5133.

Comments Due: 5 p.m. ET 7/23/18.

Docket Numbers: RP18-940-002.

Applicants: Empire Pipeline, Inc.

Description: Tariff Amendment: Errata No. 2 Empire Rate Case—June 2018 to be effective 8/1/2018.

Filed Date: 7/10/18.

Accession Number: 20180710-5028.

Comments Due: 5 p.m. ET 7/16/18.

Docket Numbers: RP18-965-000.

Applicants: Gulf Crossing Pipeline Company LLC.

Description: § 4(d) Rate Filing: Amendment to Neg Rate Agmt (BP37-28) to be effective 7/11/2018.

Filed Date: 7/10/18.

Comments Due: 5 p.m. ET 7/23/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2018.
Nathaniel J. Davis, Sr.,
Deputy Secretary.

[FR Doc. 2018-15124 Filed 7-13-18; 8:45 am]

BILLING CODE 6717-01-P